DEPARTMENT OF JUSTICE

Notice of Proposed Consent Decree Under the Clean Air Act

Notice is hereby given that on January 26, 2011, a proposed Consent Decree was lodged with the District Court of the Virgin Islands, Division of St. Croix, in United States et al. v. HOVENSA L.L.C., Civil Action No. 1:11-cv-6.

The Consent Decree in this Clean Air Act enforcement actions against HOVENSA L.L.C. resolves allegations by the Environmental Protection Agency, asserted in a complaint filed together with the Consent Decree, under section 113(b) of the Clean Air Act, 42 U.S.C. 7413(b), for alleged environmental violations at HOVENSA L.L.C.'s petroleum refinery in St. Croix, United States Virgin Islands. The proposed Consent Decree also resolves separate but related territorial law claims brought by co-plaintiff the United States Virgin Islands.

This is one of numerous national settlements reached as part of the EPA's Clean Air Act Petroleum Refinery Initiative. Consistent with the objectives of EPA's national initiative, in addition to the payment of civil penalties, the settlement requires HOVENSA L.L.C. to perform injunctive relief to reduce emissions of nitrogen oxides, sulfur dioxide, volatile organic compounds, and benzene.

The Department of Justice will receive comments relating to the proposed Consent Decrees for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to the matters as United States et al. v. HOVENSA L.L.C, DOJ Ref. No. 90-5-2-1-08229/1.

The proposed Consent Decree may be examined at the Office of the United States Attorney, Federal Building and U.S. Courthouse, 5500 Veterans Drive, Room 260, St. Thomas, Virgin Islands 00802 and at U.S. EPA Region II, 290 Broadway, New York, New York 10007-1866.

During the public comment period, the proposed agreements may also be examined on the following Department of Justice Web site: http://www.usdoj.gov/enrd/Consent_Decrees.html. Copies of the proposed agreements may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree for United States et al. v. HOVENSA L.L.C., Civil Action No. 1:11-cv-6, please enclose a check in the amount of $45.00 (25 cents per page reproduction cost) payable to the U.S. Treasury.

Maureen Katz,
Assistant Chief, Environmental Enforcement Section, Environment and Natural Resources Division.

[FR Doc. 2011-2080 Filed 1-31-11; 8:45 am]

BILLING CODE 4410-15-P